DEPARTMENT OF HEALTH AND HUMAN SERVICES

National Institutes of Health

Notice of Meeting; NIAID Town Hall Meeting on the New National Institute of Allergy and Infectious Diseases (NIAID) Leadership Group for a Clinical Research Network on Infectious Diseases Other than HIV

Notice is hereby given that the National Institute of Allergy and Infectious Diseases (NIAID), a component of the National Institutes of Health (NIH) of the Department of Health and Human Services (DHHS), will convene a public information session (Town Hall meeting) on March 7, 2011 at the Bethesda Marriott in Bethesda, MD to discuss plans to establish a new NIAID Leadership Group for a Clinical Research Network on Infectious Diseases other than HIV.

The establishment of this new program was first announced at the October 26, 2010 NIAID Town Hall Meeting on NIAID's HIV/AIDS Clinical Trials Networks (see: http://www.niaid.nih.gov/news/townhall/Pages/restructuringNIAIDCTN.aspx). This new effort presents NIAID with an opportunity to expand clinical research on infectious diseases other than HIV using a multi-site clinical trials infrastructure not previously available to non-AIDS investigators.

At the March 7, 2011 meeting NIAID leadership will describe NIAID's current clinical research programs and outline plans for, and respond to questions regarding, the new NIAID Leadership Group for a Clinical Research Network on Infectious Diseases other than HIV.

Individuals interested in attending the Town Hall meeting should refer to the Registration section below.

DATES: March 7, 2011.

ADDRESSES: Bethesda Marriott, 5151 Pooks Hill Road, Bethesda, Maryland 20814, 301-897-9400.

Registration: http://www.blsmeetings.net/TownHallNIAID.

Inquiries: April Hall, NIAIDClinicalRFI@niaid.nih.gov.

Dated: January 28, 2011.
Carole Heilman,
Director, Division of Microbiology and Infectious Diseases, NIAID, National Institutes of Health.

[FR Doc. 2011-2737 Filed 2-7-11; 8:45 am]

BILLING CODE 4140-01-P